DEPARTMENT OF ENERGY

Federal Energy Regulatory Commission

Combined Notice of Filings

Take notice that the Commission has received the following Natural Gas Pipeline Rate and Refund Report filings:

Filings Instituting Proceedings

Docket Numbers: PR14-34-000.

Applicants: Southcross Mississippi Pipeline, L.P.

Description: Tariff filing per 284.123(b)(2)+(g): Statement of Operating Conditions effective 2/1/2014; TOFC 1310.

Filed Date: 4/11/14.

Accession Number: 20140411-5226.

Comments Due: 5 p.m. ET 5/2/14.

284.123(g) Protests Due: 5 p.m. ET 5/2/14.

Docket Numbers: PR14-35-000.

Applicants: Crosstex North Texas Pipeline, L.P.

Description: Tariff filing per 284.123(e)+(g): EnLink Revised SOC to be effective 4/1/2014; TOFC: 1280.

Filed Date: 4/14/14.

Accession Number: 20140414-5130.

Comments Due: 5 p.m. ET 5/5/14.

284.123(g) Protests Due: 5 p.m. ET 5/5/14.

Docket Numbers: PR11-117-000.

Applicants: Crosstex North Texas Pipeline, L.P.

Description: Tariff filing per 284.123(b)(1)+(g): Certification of Rates (EnLink); TOFC: 1260.

Filed Date: 4/15/14.

Accession Number: 20140415-5160.

Comments Due: 5 p.m. ET 5/6/14.

284.123(g) Protests Due: 5 p.m. ET 5/6/14.

Docket Numbers: RP14-46-000.

Applicants: Transcontinental Gas Pipe Line Company.

Description: Motion Filing—Tariff Revision and Clarification Filing October 2013 (RP14-46) to be effective 4/16/2014.

Filed Date: 4/16/14.

Accession Number: 20140416-5103.

Comments Due: 5 p.m. ET 4/28/14.

Docket Numbers: RP14-738-000.

Applicants: Dominion Transmission, Inc.

Description: DTI—Secondary Access to Applicable Market Center Point to be effective 5/15/2014.

Filed Date: 4/15/14.

Accession Number: 20140415-5110.

Comments Due: 5 p.m. ET 4/28/14.

Docket Numbers: RP14-739-000.

Applicants: Texas Eastern Transmission, LP.

Description: Negotiated Rate Agreements Cleanup Apr2014 to be effective 5/16/2014.

Filed Date: 4/16/14.

Accession Number: 20140416-5074.

Comments Due: 5 p.m. ET 4/28/14.

Docket Numbers: RP14-740-000.

Applicants: Big Sandy Pipeline, LLC.

Description: Negotiated Rate Agreements Cleanup—Apr2014 to be effective 5/16/2014.

Filed Date: 4/16/14.

Accession Number: 20140416-5081.

Comments Due: 5 p.m. ET 4/28/14.

Docket Numbers: RP14-741-000.

Applicants: Algonquin Gas Transmission, LLC.

Description: Negotiated Rate Agreements Cleanup—Apr2014 to be effective 5/16/2014.

Filed Date: 4/16/14.

Accession Number: 20140416-5102.

Comments Due: 5 p.m. ET 4/28/14.

Docket Numbers: RP14-742-000.

Applicants: Millennium Pipeline Company, LLC.

Description: Negotiated & Non-Conf Agreements—Conversion of BH to FT to be effective 5/1/2014.

Filed Date: 4/16/14.

Accession Number: 20140416-5159.

Comments Due: 5 p.m. ET 4/28/14.

Docket Numbers: RP14-743-000.

Applicants: Guardian Pipeline, L.L.C.

Description: Negotiated Rate PAL Agreements—Exelon Generation Company, L.L.C. to be effective 4/17/2014.

Filed Date: 4/16/14.

Accession Number: 20140416-5179.

Comments Due: 5 p.m. ET 4/28/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP14-502-003.

Applicants: Gulf South Pipeline Company, LP.

Description: Third amendment filing in RP14-502, et al. to be effective 2/20/2014.

Filed Date: 4/16/14.

Accession Number: 20140416-5076.

Comments Due: 5 p.m. ET 4/28/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 17, 2014.
Nathaniel J. Davis, Sr.,
Deputy Secretary.

[FR Doc. 2014-09521 Filed 4-25-14; 8:45 am]

BILLING CODE 6717-01-P